FEDERAL COMMUNICATIONS COMMISSION

47 CFR Part 2 and 27

[GN Docket No. 12-268: DA 17-887]

Expanding the Economic and Innovation Opportunities of Spectrum Through Incentive Auctions

AGENCY: Federal Communications Commission.

ACTION: Final rule.

SUMMARY: In this document, the Commission modifies the Table of Frequency Allocations (Allocations Table) in of its rules, as well as modifying four of its rules, to conform them to the results of the broadcast television incentive auction. This action ensures that the Commission's rules accurately reflect revisions that occurred because of that auction.

DATES: Effective November 13, 2017.

FOR FURTHER INFORMATION CONTACT: Tom Mooring, Office of Engineering and Technology, 202-418-2450, Tom.Mooring@fcc.gov.

SUPPLEMENTARY INFORMATION: This is a summary of the Commission's Order, GN Docket No. 12-268, DA 17-887, adopted September 11, 2017, and released September 13, 2017. The full text of this document is available for inspection and copying during normal business hours in the FCC Reference Center (Room CY-A257), 445 12th Street SW., Washington, DC 20554. The full text may also be downloaded at: http://transition.fcc.gov/Daily_Releases/Daily_Business/2017/db0714/FCC-17-95A1.pdf.

People with Disabilities: To request materials in accessible formats for people with disabilities (braille, large print, electronic files, audio format), send an email to fcc504@fcc.gov or call the Consumer & Governmental Affairs Bureau at 202-418-0530 (voice), 202-418-0432 (tty).

Summary of Order

1. In the Incentive Auction Report and Order (R&O) in this proceeding, 79 FR 48442 (August 15, 2014), the Commission adopted rules to implement the incentive auction to allow spectrum that is used for broadcast television under a broadcasting service allocation to be repurposed for new services and applications under fixed and mobile services allocations. Under the auction design, the Commission provided that varying amounts of spectrum within the 512-698 MHz range could potentially be repurposed for such use as a result of the incentive auction. As part of the Incentive Auction R&O, the Commission amended the Allocations Table to add entries for primary non-Federal fixed and mobile services in the 512-608 MHz (UHF TV channels 2136) and 614698 MHz (UHF TV channels 38-51) bands, as well as corresponding cross-references to the Miscellaneous Wireless Communications Services, part 27, in the “FCC Rule Part(s)” column of the Allocations Table. Recognizing that the particular amount of television broadcast spectrum that would ultimately be repurposed would not be known until the incentive auction concluded, the Commission adopted specific 600 MHz band plan scenarios that would correspond to a range of different auction results. It further delegated authority to the Chief of the Office of Engineering and Technology to take such actions as are necessary to modify the Allocations Table to reflect the outcome of the incentive auction. As part of this pre-auction process, the Commission also modified certain of the part 27 rules to include generic references to the frequencies that could be assigned to new wireless services depending on the outcome of the incentive auction.

2. The April 13, 2017 Closing and Channel Reassignment Public Notice in this proceeding announced the completion of the reverse and forward auctions and the channel reassignments and reallocations made in the repacking process, including the specific 600 MHz band plan effectuated by the auction and repacking process. Under this band plan (the 600 MHz Band Plan), TV broadcasting spectrum associated with Channels 38-51 (614-698 MHz) was repurposed to include 70 megahertz of licensed spectrum (seven paired five megahertz channel blocks) for 600 MHz service wireless licensees that will operate under part 27 of the rules. The 600 MHz Band Plan is comprised of: (1) The 600 MHz band licensed for the 600 MHz service wireless licensees (which includes a downlink (617-652 MHz) band and an uplink (UL, 663-698 MHz) band); (2) the 600 MHz duplex gap (652-663 MHz) between these bands; and (3) the 600 MHz guard band (614-617 MHz) between Channel 37 (608-614 MHz), which is presently being used by the Wireless Medical Telemetry Service (WMTS) and the Radio Astronomy Service (RAS), and the 600 MHz band downlink band (617-652 MHz). The April 13, 2017 release date of the Closing and Channel Reassignment Public Notice also triggered the start of the 39-month post-auction transition period, which will end on July 13, 2020.

3. Based on the results of the incentive auction, we hereby modify the Allocations Table. Specifically, we delete the primary fixed and mobile service allocations and part 27 cross reference from the 512-608 MHz band and return the band to its pre-auction allocation status. We also revise the entries for the 614-698 MHz band by deleting the primary broadcasting service allocation and removing the part 73 cross reference to account for post-auction fixed and mobile use by 600 MHz service wireless licensees that will operate under part 27 of the rules and new footnote NG33. This change reflects use of these frequencies for broadcasting during and after the 39-month post-auction transition period as discussed below. In addition, we revise the text of three non-Federal Government footnotes (NG5, NG14, and NG149) that provide for limited flexible use of the television broadcast bands, including the 614-698 MHz band, by providing a cross reference to new footnote NG33.

4. To fully account for the various licensed services and unlicensed devices that will operate in the 614-698 MHz band during and after the transition, we add new footnote NG33 to the Allocations Table. Pursuant to the Commission's direction, the footnote authorizes operations of: (1) Full power and Class A television stations on a primary basis in the 614-698 MHz band (i.e., TV channels 38-51) until such stations terminate operations on their preauction channels, (2) licensed low power television (LPTV) and TV translator station operations on a secondary basis in the 614-698 MHz band under part 74 Subpart G, (3) licensed fixed broadcast auxiliary service (BAS) operations (which include TV studio-transmitter link (STL), TV relay, and TV translator relay station operations) on a secondary basis in the 614-698 MHz band under part 74 Subpart F, (4) licensed wireless microphone and other low power auxiliary station (LPAS) operations and wireless assist video device (WAVD) operations on a secondary basis under part 74 Subpart H, (5) unlicensed wireless microphone operations under part 15 on a non-interference basis, on frequencies in the 614-698 MHz band, and (6) unlicensed white space device operations under part 15 on a non-interference basis on frequencies in the 614-698 MHz band.

5. Based on the results of the incentive auction, we also modify four rules in part 27. We revise section 27.1(b)(14) to replace a generic reference to the 470-698 MHz UHF band with a specific reference to “617-652 MHz and 663-698 MHz,” to follow the 600 MHz Band Plan and be consistent with the way the rule is structured. We also modify section 27.5, which lists available frequencies, channel blocks, and geographic areas of licensing, by revising paragraph (l) to state that the 600 MHz Band (for the 600 MHz service) consists of seven pairs of 5 megahertz channel blocks available for assignment on a Partial Economic Area basis, and to identify the frequencies associated with blocks A through G. Section 27.6 specifies the Partial Economic Areas for each of the frequency bands and channel blocks listed in section 27.5. We revise the text of 27.6(l) to reference additional details recently provided by the Wireless Telecommunications Bureau about licensing in the 600 MHz band by Partial Economic Areas. Lastly, we revise section 27.11(k) to specify the 600 MHz Band (i.e., the 617-652 MHz downlink band and 663-698 MHz uplink band) and to add a cross-reference to the frequency blocks specified in Section 27.5(l).

6. We conclude that there is good cause for not employing the prior notice and comment procedure specified in the Administrative Procedure Act (APA) in this case. The rule modifications here implement the Commission's prior rulemaking decisions issued following notice-and-comment procedures in the incentive auction proceeding with respect to the 600 MHz Band and the end date of the post-auction transition period. These specific frequency bands and dates were not known until the close of the incentive auction on April 13, 2017 with the release of the Closing and Channel Reassignment Public Notice. In implementing these rule revisions, we have no discretion to deviate from the auction results and the Commission's prior rulemaking decisions. Under these circumstances, we find that notice and comment under section 553 of the APA, 5 U.S.C. 553, would be unnecessary.

7. We take this action to modify the Allocations Table and to make conforming amendments to the rules under authority expressly delegated by the Commission in the Incentive Auction R&O and the authority delegated in part 0 of the Commission's rules. The specific edits to the Allocations Table and service rules described herein are contained in the Final Rules.

8. Because this Order is being adopted without notice and comment, the Regulatory Flexibility Act does not apply.

9. The rules contained herein have been analyzed with respect to the Paperwork Reduction Act of 1995 and found to contain no new or modified form, information collection, and/or recordkeeping, labeling, disclosure, or record retention requirements, and will not increase or decrease burden hours imposed on the public. In addition, therefore, this Order does not contain any new or modified “information collection burden for small business concerns with fewer than 25 employees,” pursuant to the Small Business Paperwork Relief Act of 2002.

10. The Commission will send a copy of the Order in a report to Congress and the Government Accountability Office pursuant to the Congressional Review Act, see 5 U.S.C. 801(a)(1)(A).

11. Accordingly, it is ordered that parts 2 and 27 of the Commission's Rules, 47 CFR parts 2 and 27, are amended as set forth in the Final Rules, effective 30 days after the date of publication in the Federal Register. This action is taken pursuant to authority found in sections 4(i) and 303 of the Communications Act of 1934, as amended, 47 U.S.C. 154(i) and 303; in section 553(b)(B) of the Administrative Procedure Act, 5 U.S.C. 553(b)(B); in Sections 0.31, 0.131, 0.241 and 0.331 of the Commission's Rules, 47 CFR 0.31, 0.131, 0.241 and 0.331; and in Expanding the Economic and Innovation Opportunities of Spectrum Through Incentive Auctions, GN Docket No. 12-268, Report and Order, 29 FCC Rcd 6567 (2014).

List of Subjects

47 CFR Part 2

Telecommunications.

47 CFR Part 27

Communications equipment.

Federal Communications Commission.
Ronald T. Repasi,
Deputy Chief, Office of Engineering and Technology.

Final Rules

For the reasons discussed in the preamble, the Federal Communications Commission amends parts 2 and 27 of Title 47 of the Code of Federal Regulations to read as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, the Table of Frequency Allocations, is amended as follows:

a. Pages 29 and 30 are revised.

b. In the list of Non-Federal Government (NG) Footnotes, footnotes NG5, NG14, and NG149 are revised and footnote NG33 is added.

The revisions and additions read as follows:

§ 2.106 Table of Frequency Allocations.

* * * * *

BILLING CODE 6712-01-P

BILLING CODE 6712-01-C

* * * * *

Non-Federal Government (NG) Footnotes

* * * * *

NG5 In the band 535-1705 kHz, AM broadcast licensees and permittees may use their AM carrier on a secondary basis to transmit signals intended for both broadcast and non-broadcast purposes. In the band 88-108 MHz, FM broadcast licensees and permittees are permitted to use subcarriers on a secondary basis to transmit signals intended for both broadcast and non-broadcast purposes. In the bands 54-72, 76-88, 174-216, 470-608, and 614-698 MHz, TV broadcast licensees and permittees are permitted to use subcarriers on a secondary basis for both broadcast and non-broadcast purposes. Use of the band 614-698 MHz is subject to the provisions specified in NG33.

* * * * *

NG14 TV broadcast stations authorized to operate in the bands 54-72, 76-88, 174-216, 470-608, and 614-698 MHz may use a portion of the television vertical blanking interval for the transmission of telecommunications signals, on the condition that harmful interference will not be caused to the reception of primary services, and that such telecommunications services must accept any interference caused by primary services operating in these bands. Use of the band 614-698 MHz is subject to the provisions specified in NG33.

* * * * *

NG33 In the band 614-698 MHz, the following provisions shall apply:

(a) Until July 13, 2020, stations in the broadcasting service and other authorized uses may operate as follows:

(1) Full power and Class A television (TV) stations, i.e., broadcast TV stations, may operate on a co-equal, primary basis with stations in the fixed and mobile services until such stations terminate operations on their pre-auction television channels in accordance with § 73.3700(b)(4).

(2) Low power TV (LPTV) and TV translator stations may operate on a secondary basis to stations in the fixed and mobile services and to broadcast TV stations, and fixed TV broadcast auxiliary stations may operate on a secondary basis to LPTV and TV translator stations, unless such stations are required to terminate their operations earlier in accordance with § 73.3700(g)(4) or § 74.602(h)(5)-(6).

(3) Low power auxiliary stations (LPAS), including wireless assist video devices (WAVDs), may operate on a secondary basis to all other authorized stations in accordance with § 74.802(f) and § 74.870(i).

(4) Unlicensed wireless microphones and white space devices (WSDs) may operate on a non-interference basis, unless such devices are required to terminate operations earlier in accordance with § 15.236(c)(2) or § 15.707(a)(1)-(2), (5), respectively.

(b) After July 13, 2020, only the following types of radiofrequency devices that are authorized in paragraph (a) may continue to operate:

(1) LPTV and TV translator stations may operate on a secondary basis to stations in the fixed and mobile services in the sub-bands 617-652 MHz and 663-698 MHz until required to terminate their operations in accordance with § 73.3700(g)(4).

(2) LPAS may operate in the sub-band 653-657 MHz and unlicensed wireless microphones may operate in the sub-bands 614-616 MHz and 657-663 MHz.

(3) WSDs may operate in: (i) The sub-bands 617-652 MHz and 663-698 MHz, except in those areas where their use is prohibited in accordance with §§ 15.707(a)(5) and 15.713(b)(2)(iv), and (ii) the sub-band 657-663 MHz, in accordance with § 15.707(a)(4).

* * * * *

NG149 The bands 54-72, 76-88, 174-216, 470-608, and 614-698 MHz are also allocated to the fixed service to permit subscription television operations in accordance with 47 CFR part 73. Use of the band 614-698 MHz is subject to the provisions specified in NG33.

* * * * *

PART 27—MISCELLANEOUS WIRELESS COMMUNICATIONS SERVICES

3. The authority citation for part 27 continues to read as follows:

Authority: 47 U.S.C. 154, 301, 302a, 303, 307, 309, 332, 336, 337, 1403, 1404, 1451, and 1452, unless otherwise noted.

4. Section 27.1 is amended by revising paragraph (b)(14) to read as follows:

§ 27.1 Basis and purpose.

* * * * *

(b) * * *

(14) 617-652 MHz and 663-698 MHz.

* * * * *

5. Section 27.5 is amended by revising paragraph (l) to read as follows:

§ 27.5 Frequencies.

* * * * *

(l) 600 MHz band. The 600 MHz band (617-652 MHz and 663-698 MHz) has seven pairs of 5 megahertz channel blocks available for assignment on a Partial Economic Area basis as follows:

Block A: 617-622 MHz and 663-668 MHz;

Block B: 622-627 MHz and 668-673 MHz;

Block C: 627-632 MHz and 673-678 MHz;

Block D: 632-637 MHz and 678-683 MHz;

Block E: 637-642 MHz and 683-688 MHz;

Block F: 642-647 MHz and 688-693 MHz; and

Block G: 647-652 MHz and 693-698 MHz.

6. Section 27.6 is amended by revising paragraph (l) to read as follows:

§ 27.6 Service areas.

* * * * *

(l) 600 MHz band. Service areas for the 600 MHz band are based on Partial Economic Areas (PEAs) as defined by Wireless Telecommunications Bureau Provides Details About Partial Economic Areas, Public Notice, 29 FCC Rcd 6491, App. B (2014). The service areas of PEAs that border the U.S. coastline of the Gulf of Mexico extend 12 nautical miles from the U.S. Gulf coastline. The service area of the Gulf of Mexico PEA (PEA 416) that comprises the water area of the Gulf of Mexico extends from 12 nautical miles off the U.S. Gulf coast outward into the Gulf.

7. Section 27.11 is amended by revising paragraph (k) to read as follows:

§ 27.11 Initial authorization.

* * * * *

(k) 600 MHz band. Initial authorizations for the 600 MHz band will be based on Partial Economic Areas (PEAs), as specified in § 27.6(1), and, shall be paired channels that each consist of a 5 megahertz channel block in the 600 MHz downlink band (617-652 MHz), paired with a 5 megahertz channel block in the 600 MHz uplink band (663-698 MHz), based on the frequency blocks specified in § 27.5(l).

[FR Doc. 2017-21790 Filed 10-10-17; 8:45 am]

BILLING CODE 6712-01-P